DEPARTMENT OF COMMERCE

National Institute of Standards and Technology

Agency Information Collection Activities; Submission to the Office of Management and Budget (OMB) for Review and Approval; Comment Request; Recipient Reporting Information Collection

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 19, 2023.

ADDRESSES: Interested persons are invited to submit written comments by mail to Liz Reinhart, Management Analyst, National Institute of Standards and Technology, PRAcomments@doc.gov. Please reference Recipient Reporting Information Collection OMB Control Number 0693-xxxx in the subject line of your comments. Do not submit Confidential Business Information or otherwise sensitive or protected information.

FOR FURTHER INFORMATION CONTACT: Requests for additional information or specific questions related to collection activities should be directed to Cierra Bean, Business Operations Specialist, CHIPS Program Office, askchips@chips.gov.

SUPPLEMENTARY INFORMATION:

I. Abstract

The CHIPS Incentives Program is authorized by Title XCIX—Creating Helpful Incentives to Produce Semiconductors for America of the William M. (Mac) Thornberry National Defense Authorization Act for Fiscal Year 2021 (Pub. L. 116-283, referred to as the CHIPS Act or Act), as amended by the CHIPS Act of 2022 (Division A of Pub. L. 117-167). The CHIPS Incentives Program is administered by the CHIPS Program Office (CPO) within the National Institute of Standards and Technology (NIST) of the United States Department of Commerce (Department).

The CPO is considering collecting key data and information from recipients of CHIPS funding for the purposes of monitoring progress and performance on selected projects; ensuring compliance with the terms of an award; general programmatic financial management activities; and executing long-term program evaluation initiatives. CPO intends to collect key data and information in three primary categories: metrics, milestones, and reports. Metrics are quantitative measures that describe project progress or impact, and milestones are discrete action steps that are tied to target dates. Examples of data or information collected in the metric category may include but are not limited to number of jobs created, wafer starts per month, cumulative obligations, number of new customers contracts, or percentage of total childcare seats filled. Examples of milestone data or information collected may include but are not limited to construction milestones (e.g., permit issuance, utilities installation, fab groundbreaking, fab completion, etc.) or production go-live. Reports describe progress or details of a given content area in a narrative fashion.

The frequency and granularity of data and information collection is still under development by CPO. CPO will aim for a balance of utility to the government and burden on the recipient when determining the data and information to collect.

II. Method of Collection

CPO intends to collect data from recipients electronically, although other methods, e.g., interviews, email, etc., may also be leveraged. The primary data collection tool will be Salesforce, which CPO leverages for the application process and will leverage for communication with recipients post award.

III. Data

OMB Control Number: 0693-XXXX.

Form Number(s): None.

Type of Review: Regular submission.

Affected Public: Business or other for-profit organizations.

Estimated Number of Respondents: 100.

Estimated Time per Response: 12 hours.

Estimated Total Annual Burden Hours: 1,200 hours.

Estimated Total Annual Cost to Public: $56,784.

Respondent's Obligation: Mandatory to be eligible for CHIPS Act funding.

Legal Authority: CHIPS Act of 2022 (Division A of Pub. L. 117-167) (the Act).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-15537 Filed 7-20-23; 8:45 am]

BILLING CODE 3510-13-P